DEPARTMENT OF HOMELAND SECURITY

Coast Guard

33 CFR Part 117

[Docket No. USCG-2012-0033]

Drawbridge Operation Regulations; Hutchinson River (Eastchester Creek), Bronx, NY

AGENCY: Coast Guard, DHS.

ACTION: Notice of temporary deviation from regulations.

SUMMARY: The Commander, First Coast Guard District, has issued a temporary deviation from the regulation governing the operation of the Amtrak Pelham Bay Railroad Bridge, mile 0.5, across the Hutchinson River (Eastchester Creek) at the Bronx, New York. The deviation is necessary to facilitate scheduled maintenance at the bridge. This deviation allows the bridge to remain in the closed position during two separate phases.

DATES: This deviation is effective from 10 p.m. on February 10, 2012 through 4 a.m. on February 20, 2012.

ADDRESSES: Documents mentioned in this preamble as being available in the docket are part of docket USCG-2012-0033 and are available online at www.regulations.gov, inserting USCG-2012-0033 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, judy.k.leung-yee@uscg.mil, or telephone (212) 668-7165. If you have questions on viewing the docket, call Renee V. Wright, Program Manager, Docket Operations, telephone (202) 366-9826.

SUPPLEMENTARY INFORMATION: The Amtrak Pelham Bay Railroad Bridge, across the Hutchinson River (Eastchester Creek), mile 0.5, at the Bronx, New York, has a vertical clearance in the closed position of 8 feet at mean high water and 15 feet at mean low water. The drawbridge operation regulations are listed at 33 CFR 117.793(a)(3).

The waterway users are mostly commercial operators.

The owner of the bridge, National Railroad Passenger Company (Amtrak), requested a temporary deviation from the regulations to facilitate scheduled maintenance by replacing overhead fiber optic cables at the bridge. The maintenance will be conducted during two separate phases.

During the first phase of the temporary deviation, the Amtrak Pelham Bay Railroad Bridge may remain in the closed position from 10 p.m. on February 10, 2012 through 4 a.m. on February 13, 2012. At the end of the first phase the bridge will return to its regular operating schedule. During the second phase of the temporary deviation, the bridge may remain in the closed position from 10 p.m. on February 17, 2012 through 4 a.m. on February 20, 2012. At the end of the second phase the bridge will return to its regular operating schedule. Vessels that can pass under the bridge in the closed position may do so at any time.

The commercial users were notified. No objections were received.

In accordance with 33 CFR 117.35(e), the bridge must return to its regular operating schedule immediately at the end of the designated time periods. This deviation from the operating regulations is authorized under 33 CFR 117.35.

Dated: January 26, 2012.
Gary Kassof,
Bridge Program Manager, First Coast Guard District.

[FR Doc. 2012-2783 Filed 2-6-12; 8:45 am]

BILLING CODE 9110-04-P